DEPARTMENT OF DEFENSE

Defense Acquisition Regulations System

48 CFR Part 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update contact information in a contract clause and to make minor editorial corrections.

DATES: Effective Date: December 18, 2008.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

○ 252.203-7001. Updates a phone number and adds a Web link.

○ 252.211-7007. Corrects punctuation.

List of Subjects in 48 CFR Part 252

Government procurement.

Michele P. Peterson,
Editor, Defense Acquisition Regulations System.

Therefore, 48 CFR Part 252 is amended as follows:

PART 252—SOLICITATION PROVISIONS AND CONTRACT CLAUSES

1. The authority citation for 48 CFR Part 252 continues to read as follows:

Authority: 41 U.S.C. 421 and 48 CFR Chapter 1.

252.203-7001 [Amended]

2. Section 252.203-7001 is amended as follows:

a. By revising the clause date to read “(DEC 2008)”; and

b. In paragraph (h) by removing “(301) 809-4904” and adding in its place “301-937-1542; www.ojp.usdoj.gov/BJA/grant/DPFC.html”.

252.211-7007 [Amended]

3. Section 252.211-7007 is amended as follows:

a. In paragraph (d)(5) by adding an ending parenthesis before the period; and

b. In paragraph (d)(10)(vi) by removing the ending parenthesis before the period.

[FR Doc. E8-29992 Filed 12-17-08; 8:45 am]

BILLING CODE 5001-08-P